Executive Order 13721 of March 14, 2016

Developing an Integrated Global Engagement Center To Support Government-wide Counterterrorism Communications Activities Directed Abroad and Revoking Executive Order 13584

By the authority vested in me as President by the Constitution and the laws of the United States of America, including section 2656 of title 22, United States Code, and section 3161 of title 5, United States Code, it is hereby ordered as follows:

Section 1. Establishment of the Global Engagement Center. The Secretary of State (Secretary) shall establish the Global Engagement Center (Center) which shall lead the coordination, integration, and synchronization of Government-wide communications activities directed at foreign audiences abroad in order to counter the messaging and diminish the influence of international terrorist organizations, including the Islamic State of Iraq and the Levant (ISIL), al Qa'ida, and other violent extremists abroad, with specific responsibilities as set forth in section 3 of this order. The executive director of the Center shall be the Special Envoy and Coordinator for Global Engagement Communications (Coordinator), who shall report to the Secretary through the Under Secretary of State for Public Diplomacy.

Sec. 2. Revocation. Executive Order 13584 of September 9, 2011 (Developing an Integrated Strategic Counterterrorism Communications Initiative and Establishing a Temporary Organization to Support Certain Government-Wide Communications Activities Directed Abroad), is revoked.

Sec. 3. Responsibilities Assigned to the Center. Recognizing the need for innovation and new approaches to counter the messaging and diminish the influence of international terrorist organizations, including ISIL, al Qa'ida, and other violent extremists abroad, and in order to protect the vital national interests of the United States, while also recognizing the importance of protections for freedom of expression, including those under the First Amendment to the Constitution of the United States and international human rights obligations, the responsibilities and functions of the Center shall include the following:

(a) coordinating, integrating, and synchronizing all public communications of the United States Government directed toward foreign audiences abroad in order to counter the messaging and diminish the influence of international terrorist organizations and other violent extremists abroad;

(b) developing and promulgating throughout the executive branch, on the basis of rigorous research and modern data analysis, the U.S. strategic counterterrorism narratives, guidance, and associated communications strategies directed toward foreign audiences abroad in order to counter the messaging and diminish the influence of international terrorist organizations and other violent extremists abroad;

(c) consulting and engaging, in coordination with agencies and the Countering Violent Extremism Task Force, as appropriate, with a range of communications-related actors and entities, within the United States and abroad, including governments, private sector and civil society entities, in order to contribute to U.S. Government efforts to counter the communications-related radicalization to violence and recruitment activities of international terrorist organizations and other violent extremists abroad, while also building the capacity of partners to create resonant positive alternative narratives and to diminish the influence of such international terrorist organizations and other violent extremists abroad;

(d) identifying, engaging, employing, or acquiring the best available talent across the U.S. and from global private sectors, academia, and elsewhere to support the Center's mission;

(e) identifying shortfalls in any U.S. capabilities in any areas relevant to the Center's mission and implementing or recommending, as appropriate, necessary enhancements or changes; and

(f) developing, supporting, and sustaining networks of governmental and non-governmental partners, to provide original content and disseminate messaging products to foreign audiences abroad and to create, develop, and sustain effective positive alternative narratives consistent with U.S. policy objectives.

Sec. 4. Establishment of a Steering Committee. The Secretary shall establish a Steering Committee composed of senior representatives of agencies relevant to the Center's mission to provide advice to the Secretary on the operations and strategic orientation of the Center and to ensure adequate support for the Center. The Steering Committee shall be chaired by the Under Secretary of State for Public Diplomacy. The Steering Committee shall include one senior representative designated by the head of each of the following agencies: the Department of Defense, the Department of Justice, the Department of Homeland Security, the Department of the Treasury, the Small Business Administration, the National Counterterrorism Center, the Joint Chiefs of Staff, the Counterterrorism Center of the Central Intelligence Agency, the Broadcast Board of Governors, and the United States Agency for International Development. Other agencies may be invited to participate in the Steering Committee at the discretion of the Chair.

Sec. 5. Interagency Support. Agencies are hereby directed, consistent with budget priorities and mission constraints, upon request by the Secretary and to the extent permitted by law and consistent with the need to protect intelligence and law enforcement sources, methods, operations, and investigations, to provide to the Center, and the Center is authorized to use, for the purpose of carrying out the responsibilities outlined in this order:

(a) details or assignments of personnel, which shall be based on reasonable requests in light of the need for specific domain expertise, and after consultation with the relevant agency to ensure that such requests align with their authorities and resources;

(b) the use of physical premises, equipment, and logistical or administrative support;

(c) relevant information, research, intelligence, and analysis; and

(d) such other resources and assistance as the Coordinator may request for the purpose of carrying out the responsibilities outlined in this order.

Sec. 6. Establishment of a Temporary Organization. (a) There is established within the Department of State, in accordance with section 3161 of title 5, United States Code, a temporary organization to be known as the Global Engagement Center Coordination Office (GECCO).

(b) The purpose of the GECCO shall be to perform the specific project of providing technical, marketing, management, and operational support to the Center in its efforts to build and maintain a network of partners outside the U.S. Government, including private sector entities and non-governmental organizations, and to develop research and analytics to enable measurement and evaluation of the activities of the Center and related activities conducted by other agencies.

(c) In carrying out the purposes set forth in subsection (b) of this section, the GECCO shall:

(i) provide technical, marketing, management, and operational support for the management of contracts, grants, and cooperative agreements;

(ii) assist the Center in building and maintaining partnerships with private sector entities, non-governmental organizations, and others as appropriate in support of the Center's mission;

(iii) design and develop sustained campaigns, in coordination with and primarily for use by private sector entities and non-governmental organizations, on specific areas of interest to foreign audiences abroad in support of the Center's mission;

(iv) conduct or commission baseline research to establish the basis for evaluation of the activities of the Center and related activities conducted by other agencies;

(v) develop analytical models and metrics, consistent with the Center's responsibilities, in order to enable measurement and evaluation of the activities of the Center in coordinating effective strategies to counter the messaging and diminish the influence of international terrorist organizations and other violent extremists abroad, and related activities conducted by other agencies; and

(vi) perform such other functions related to the specific project set forth in subsection (b) of this section as the Secretary may assign.

(d) The GECCO shall be headed by the Coordinator. Its staff may include, as determined by the Coordinator: (1) personnel with relevant expertise detailed on a non-reimbursable basis from other agencies; (2) senior and other technical advisers; (3) executive-level personnel; and (4) such other personnel as the Secretary may request to support the GECCO. To accomplish this mission, the heads of agencies shall, upon request, provide to the GECCO, on a non-reimbursable basis, assistance, services, and other support including but not limited to logistical and administrative support and details of personnel to the extent permitted by law. Non-reimbursable details to the GECCO shall be based on reasonable requests from the Coordinator in light of the need for specific expertise, and after consultation with the relevant agency, to the extent permitted by law.

(e) The GECCO shall terminate at the end of the maximum period permitted by section 3161(a)(1) of title 5, United States Code, unless sooner terminated by the Secretary consistent with section 3161(a)(2) of such title.

(f) The termination of the GECCO as required by subsection (e) of this section shall not be interpreted to imply the termination, attenuation or amendment of any other authority or provision of this order.

Sec. 7. General Provisions. (a) Nothing in this order shall be construed to impair or otherwise affect:

(i) authority granted by law to an agency, or the head thereof; or

(ii) functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 14, 2016.

[FR Doc. 2016-06250

Filed 3-16-16; 11:15 am]

Billing code 3295-F6-P